DEPARTMENT OF EDUCATION

Privacy Act of 1974; System of Records—Impact Evaluation of the U.S. Department of Education's Student Mentoring Program

AGENCY: Institute of Education Sciences, Department of Education.

ACTION: Notice of a new system of records.

SUMMARY: In accordance with the Privacy Act of 1974, as amended (Privacy Act), the Department of Education (the Department) publishes this notice of a new system of records entitled “Impact Evaluation of the U.S. Department of Education's Student Mentoring Program”, 18-13-14. The purpose of the impact evaluation is to determine the effectiveness of the Department's student mentoring program using a rigorous research design. The system will contain information about students and their mentors participating in mentoring programs funded by the Department. The sample of approximately 1,400 students will be drawn from approximately 30 of these mentoring programs. In order to assure that students can be randomly assigned to either treatment or control conditions for the study without denying available mentoring services, the mentoring programs that have been selected for inclusion in the study are likely to recruit more students for mentoring services than could possibly be served by the program. Within each mentoring program, students for the study will be selected from a pool of students who have been nominated by their schools to receive mentoring services and whose parents have enrolled them in the mentoring program. Through random assignment, approximately half of the students in the study will work with a mentor and approximately half will not.

The system will include the students' demographic information, such as date of birth and race/ethnicity, as well as self-reported attitudes about school, delinquent behaviors, personal responsibility, and the quality of their relationships with peers and adults. In addition, the system will include information about students gathered from school records (e.g., grades, standardized test scores, and disciplinary actions taken by the school). For the students in the study who are paired with mentors, the system will also include the mentors' demographic information, their self-reported experiences with the training and support provided by the mentoring program, and the activities in which mentors and students engaged.

DATES: The Department seeks comment on this new system of records described in this notice, in accordance with the requirements of the Privacy Act. We must receive your comments on the proposed routine uses for the system of records described in this notice on or before June 14, 2006.

The Department filed a report describing the new system of records covered by this notice with the Chair of the Senate Committee on Homeland Security and Governmental Affairs, the Chair of the House Committee on Government Reform, and the Administrator of the Office of Information and Regulatory Affairs, Office of Management and Budget (OMB), on May 10, 2006. This system of records will become effective at the later date of: (1) The expiration of the 40 day period for OMB review on June 19, 2006, or (2) June 14, 2006, unless the system of records needs to be changed as a result of public comment or OMB review.

ADDRESSES: Address all comments about the proposed routine uses of this system of records to Dr. Ricky Takai, Associate Commissioner, Evaluation Division, National Center for Education Evaluation and Regional Assistance, Institute of Education Sciences, U.S. Department of Education, 555 New Jersey Avenue, NW., room 502D, Washington, DC 20208-0001. Telephone: (202) 208-7083. If you prefer to send comments through the Internet, use the following address: comments@ed.gov.

You must include the term “Student Mentoring” in the subject line of the electronic message.

During and after the comment period, you may inspect all comments about this notice in room 502D, 555 New Jersey Avenue, NW., Washington, DC, between the hours of 8 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Ricky Takai. Telephone: (202) 208-7083. If you use a telecommunications device for the deaf (TDD), you may call the Federal Relay Service (FRS) at 1-800-877-8339.

Individuals with disabilities may obtain this document in an alternative format (e.g., Braille, large print, audiotape, or computer diskette) on request to the contact person listed under this section.

SUPPLEMENTARY INFORMATION:

Introduction

The Privacy Act (5 U.S.C. 552a) requires the Department to publish in the Federal Register this notice of a new system of records maintained by the Department. The Department's regulations implementing the Privacy Act are contained in part 5b of title 34 of the Code of Federal Regulations (CFR).

The Privacy Act applies to information about individuals that contains individually identifiable information that is retrieved by a unique identifier associated with each individual, such as a name or social security number. The information about each individual is called a “record,” and the system, whether manual or computer-based, is called a “system of records.” The Privacy Act requires each agency to publish notices of new or altered systems of records in the Federal Register and to submit reports to the Administrator of the Office of Information and Regulatory Affairs, OMB, the Chair of the Senate Committee on Homeland Security and Governmental Affairs, and the Chair of the House Committee on Government Reform, whenever the agency publishes a new or altered system of records.

Electronic Access to This Document

You may view this document, as well as all other documents of this Department that are published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498, or in the Washington, DC, area at (202) 512-1530.

Note: The official version of this document is the document published in the Federal Register. Free Internet access to the official edition of the Federal Register and the CFR is available on GPO Access at: http://www.gpoaccess.gov/nara/index.html.

Dated: May 5, 2006.
Grover Whitehurst,
Director, Institute of Education Sciences.

For the reasons discussed in the preamble, the Director of the Institute of Education Sciences, U.S. Department of Education, publishes a notice of a new system of records to read as follows:

18-13-14

SYSTEM NAME:

Impact Evaluation of the U.S. Department of Education's Student Mentoring Program.

SECURITY CLASSIFICATION:

None.

SYSTEM LOCATION:

(1) Evaluation Division, National Center for Education Evaluation and Regional Assistance, Institute of Education Sciences, U.S. Department of Education, 555 New Jersey Avenue, NW., room 502D, Washington, DC 20208-0001.

(2) Abt Associates, Inc., 55 Wheeler Street, Cambridge, MA 02138.

CATEGORIES OF INDIVIDUALS COVERED BY THE SYSTEM:

This system contains records on students who obtain mentoring services through mentoring programs funded by the Department of Education and who are participating in the Impact Evaluation of the U.S. Department of Education's Student Mentoring Program. The purpose of the impact evaluation is to determine the effectiveness of the Department's student mentoring program using a rigorous research design. The study sample consists of approximately 1,400 students at 30 of the mentoring programs funded by the Department. Approximately half of these students will be paired with a mentor and the other half of the students will not be paired with a mentor. Data will also be collected from these students' mentors. Participation of students and their mentors in the evaluation is voluntary.

CATEGORIES OF RECORDS IN THE SYSTEM:

The system will include the students' names, demographic information, such as date of birth and race/ethnicity, as well as self-reported attitudes about school, delinquent behaviors, personal responsibility, and the quality of their relationships with peers and adults. The system will also include information gathered from school records (e.g., grades, standardized test scores, and disciplinary actions taken by the school). The system will include mentors' demographic information, their self-reported experiences with the training and support provided by the mentoring program, and activities in which mentors and students are engaged.

AUTHORITY FOR MAINTENANCE OF THE SYSTEM:

The evaluation being conducted is authorized under sections 171(b) and 173 of the Education Sciences Reform Act of 2002 (ESRA) (20 U.S.C. 9561(b) and 9563) and Title IV, Part A, sections 4121(a)(2) and 4130 of the Elementary and Secondary Education Act of 1965, as amended by the No Child Left Behind Act of 2001 (ESEA) (20 U.S.C. 7131(a)(2) and 7140).

PURPOSE(S):

The information in this system will be used for the following purposes: (1) to support an impact evaluation of the Department's student mentoring program as requested by the Office of Management and Budget (OMB); and (2) to provide information for improvement of the Department's student mentoring program.

ROUTINE USES OF RECORDS MAINTAINED IN THE SYSTEM, INCLUDING CATEGORIES OF USERS AND THE PURPOSE OF SUCH USES:

The Department may disclose information contained in a record in this system of records under the routine uses listed in this system of records without the consent of the individual if the disclosure is compatible with the purposes for which the record was collected. These disclosures may be made on a case-by-case basis or, if the Department has complied with the computer matching requirements of the Privacy Act, under a computer matching agreement. Any disclosure of individually identifiable information from a record in this system must also comply with the requirements of section 183 of the ESRA (20 U.S.C. 9573) providing for confidentiality standards that apply to all collections, reporting and publication of data by the Institute of Education Sciences.

(1) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(2) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher must maintain Privacy Act safeguards with respect to the disclosed records.

(3) Freedom of Information Act (FOIA) Advice Disclosure. The Department may disclose records to the U.S. Department of Justice and OMB if the Department concludes that disclosure is desirable or necessary in determining whether particular records are required to be disclosed under the FOIA.

DISCLOSURE TO CONSUMER REPORTING AGENCIES:

Not applicable to this system notice.

POLICIES AND PRACTICES FOR STORING, RETRIEVING, ACCESSING, RETAINING, AND DISPOSING OF RECORDS IN THE SYSTEM:

STORAGE:

The Department maintains records on CD-ROM, and the contractor maintains data for this system on computers and in hard copy.

RETRIEVABILITY:

Records in this system are indexed by a number assigned to each student that is cross referenced by the student's name on a separate list. After students are randomly assigned to the treatment (mentoring) group, a list of those students will be sent to each mentoring program participating in the study, asking for the name of the mentor for each student, along with the contact information for each mentor. This information is entered into a Microsoft Access data base for purposes of tracking. In addition, on the survey form sent out to mentors in the spring, mentors will be asked to update their contact information if necessary.

SAFEGUARDS:

All physical access to the Department's site, and the site of the Department's contractor where this system of records is maintained, is controlled and monitored by security personnel. The computer system employed by the Department offers a high degree of resistance to tampering and circumvention. This computer system permits data access to Department and contract staff only on a “need to know” basis, and controls individual users ability to access and alter records within the system.

The contractor, Abt Associates, Inc. (Abt), has established a set of procedures to ensure confidentiality of data. Abt's system ensures that information identifying individuals is in files physically separated from other research data. Abt will maintain security of the complete set of all master data files and documentation. Access to individually identifiable data will be strictly controlled. All data will be kept in locked file cabinets during nonworking hours and work on hardcopy data will take place in a single room except for data entry. Physical security of electronic data will also be maintained. Security features that protect project data include: password-protected accounts that authorize users to use the Abt system but to access only specific network directories and network software; user rights and directory and file attributes that limit those who can use particular directories and files and determine how they can use them; e-mail passwords that authorize the user to access mail services; and additional security features that the network administrator establishes for projects as needed. The contractor employees who maintain (collect, maintain, use, or disseminate) data in this system must comply with the requirements of the confidentiality standards in section 183 of the ESRA (20 U.S.C. 9573).

RETENTION AND DISPOSAL:

Records are maintained and disposed of in accordance with the Department's Records Disposition Schedules in Part 3 (Research Projects and Management Study Records) and Part 14 (Electronic Records).

SYSTEM MANAGER AND ADDRESS:

Ricky Takai, Associate Commissioner, Evaluation Division, National Center for Education Evaluation and Regional Assistance, Institute of Education Sciences, U.S. Department of Education, 555 New Jersey Avenue, NW., room 502D, Washington, DC 20208-0001.

NOTIFICATION PROCEDURE:

If you wish to determine whether a record exists regarding you in the system of records, contact the systems manager. Your request must meet the requirements of regulations in 34 CFR 5b.5, including proof of identity.

RECORD ACCESS PROCEDURE:

If you wish to gain access to your record in the system of records, contact the system manager. Your request must meet the requirements of regulations in 34 CFR 5b.5, including proof of identity.

CONTESTING RECORD PROCEDURES:

If you wish to contest the content of a record regarding you in the system of records, contact the system manager. Your request must meet the requirements of regulations in 34 CFR 5b.7, including proof of identity.

RECORD SOURCE CATEGORIES:

The system will include the students' names, demographic information, such as date of birth and race/ethnicity, as well as self-reported attitudes about school, delinquent behaviors, personal responsibility, and the quality of their relationships with peers and adults. The system will also include information gathered from school records (e.g., grades, standardized test scores, and disciplinary actions taken by the school). The system will also include mentors' demographic information, their self-reported experiences with the training and support provided by the mentoring program, and activities in which mentors and students are engaged.

EXEMPTIONS CLAIMED FOR THE SYSTEM:

None.

[FR Doc. E6-7345 Filed 5-12-06; 8:45 am]

BILLING CODE 4000-01-P